DEPARTMENT OF ENERGY

Federal Energy Regulatory Commission

[Project No. 5867-054]

Alice Falls Hydro, LLC; Notice of Waiver Period for Water Quality Certification Application

(April 19, 2023)

On April 13, 2023, Alice Falls Hydro, LLC submitted to the Federal Energy Regulatory Commission (Commission) a copy of its application for a Clean Water Act section 401(a)(1) water quality certification filed with the New York State Department of Environmental Conservation (New York DEC), in conjunction with the above captioned project. Pursuant to 40 CFR 121.6 and section 4.34(b)(5) of the Commission's regulations,¹ we hereby notify New York DEC of the following:

¹ 18 CFR 4.34(b)(5).

Date of Receipt of the Certification Request: April 12, 2023.

Reasonable Period of Time to Act on the Certification Request: One year (April 12, 2024).

If New York DEC fails or refuses to act on the water quality certification request on or before the above date, then the agency certifying authority is deemed waived pursuant to section 401(a)(1) of the Clean Water Act, 33 U.S.C. 1341(a)(1).

Dated: April 19, 2023.
Debbie-Anne A. Reese,
Deputy Secretary.

[FR Doc. 2023-08737 Filed 4-25-23; 8:45 am]

BILLING CODE 6717-01-P